DEPARTMENT OF ENERGY

Federal Energy Regulatory Commission

[Docket No. TM99-1-8-003]

South Georgia Natural Gas Company; Notice of Refund Report

June 8, 2000.

Take notice that on May 31, 2000 South Georgia Natural Gas Company (South Georgia) tendered for filing a Refund Report in the amount of $480,672.

South Georgia states that the amount was refunded on May 31, 2000. This refund is attributable to the difference between the annualization of the December to April 1999 Lost and Unaccounted For (LAUF) volumes and the actual LAUF volumes. The annualization resulted in South Georgia retaining from its customers an extra 186,818 Mcf of gas.

Any person desiring to protest said filing should file a protest with the Federal Energy Regulatory Commission, 888 First Street, NE., Washington, DC 20426, in accordance with section 385.211 of the Commission's Rules and Regulations. All such protests must be filed on or before June 15, 2000. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-14926 Filed 6-13-00; 8:45 am]

BILLING CODE 6717-01-M